DEPARTMENT OF COMMERCE

National Oceanic and Atmospheric Administration

50 CFR Part 648

[I.D. 022205B]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Groundfish Oversight Committee in March, 2005. Recommendations from the committee will be brought to the full Council for formal consideration and action, if appropriate.

DATES: The meeting will held on Monday, March 14, 2005, at 9:30 a.m.

ADDRESSES: The meeting will be held at the Holiday Inn, 31 Hampshire Street, Mansfield, MA 02048; telephone: (508)339-2200.

FOR FURTHER INFORMATION CONTACT: Paul J. Howard, Executive Director, New England Fishery Management Council (978) 465-0492. Requests for special accommodations should be addressed to the New England Fishery Management Council, 50 Water Street, Newburyport, MA 01950; telephone: (978) 465-0492.

SUPPLEMENTARY INFORMATION: The Groundfish Oversight Committee will discuss Framework Adjustment 41 (FW 41) to the Northeast Mutlispecies Fishery Management Plan and will continue work on the biennial adjustment. FW 41 will specify the requirements for participation in the Closed Area I Haddock Special Access Program by vessels that are not members of the Georges Bank Cod Hook Sector. The Committee will focus on designing measures to reduce the risk that participation by these vessels will result in a race to fish to harvest the allowable haddock Total Allowable Catch (TAC). They will also consider ways to manage the incidental catch TAC for Georges Bank cod that is harvested in this program and may address other details as well. The Committee's recommendations will be considered by the Council at the March 29-31, 2005, Council meeting. The Committee will also continue to review issues and develop options for the biennial framework adjustment that, if adopted, will be implemented May 1, 2006. At this meeting the committee will focus on several issues that do not require information on current fishing mortality and stock status. These will include, but are not limited to, modifications to the days-at-sea transfer program, a proposal for a different management approach in the northern Gulf of Maine, alternatives to the Amendment 13 default measures, and issues related to vessels that possess both a scallop trawl and limited access groundfish permit.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: February 22, 2005.
Peter H. Fricke,
Acting Director, Office of Sustainable Fisheries, National Marine Fisheries Service.

[FR Doc. 05-3706 Filed 2-24-05; 8:45 am]

BILLING CODE 3510-22-S